DEPARTMENT OF DEFENSE

Department of the Army

Mandatory Provision of Warehouse Performance Bond by Department of Defense Personal Property Storage Transportation Service Providers (TSPs)/Contractors

AGENCY: Department of the Army, DOD.

ACTION: Notice.

SUMMARY: The Military Surface Deployment and Distribution Command (SDDC), as the Program Manager for Department of Defense (DOD) Personal Property Storage Program, is informing the Non-Temporary Storage (NTS) Transportation Service Provider (TSP)/contractor community of the mandatory requirement to provide a Warehouse Performance Bond (WPD) coverage for all contracts/agreements in the DOD Personal Property Non-Temporary Storage Program. The cost of WPB shall be included in agreements/contracts with movers and WPB shall be used to offset costs to the DOD associated with a termination of these contracts with movers.

All shipments that have been awarded up or are already in storage prior to the effective dates noted below will not be required to be covered by WPB. This notice affords TSPs/contractors ample time to incorporate the cost of providing the WPB into their rates.

DATES: Effective Date: October 1, 2007.

ADDRESSES: Requests for additional information may be sent by e-mail to: Centralrsmo@sddc.army.mil; or by courier to: Department of Army, HQ SDDC Central RSMO, ATTN: SDDC-PPP-PA-C, P.O. Box 19225, Topeka, KS 66619-0225. Such comments must be received not later than 30 calendar days from the date this notice is published in the Federal Register.

SUPPLEMENTARY INFORMATION: 1. The NTS TSP will, at its' own expense, procure a Warehouse Performance bond and furnish the SDDC, Regional Storage Management Office, Regional Program Manager a “Continuous Until Cancelled” Bond from the Surety Company representative. The Bond will be used to cover the estimated cost of re-procurement, should the TSP fail to provide an acceptable storage facility. This bond must be provided prior to entering into a binding Tender of Service agreement. The NTS TSP shall provide a Bond meeting the requirements listed below:

a. Bond shall be in the amount of $25,000 or 25 cents per pound in storage, whichever is greater. The Regional Program Manager shall review the Warehouse Performance Bond annually. If the responsible Regional Storage Management Office determines the Warehouse Performance Bond needs to be increased, the NTS TSP will be notified and provided 30 days to submit a new Bond reflecting the updated amount.

b. Provide a 30 day advance written notice to the Regional Program Manager in the event of cancellation or material change. Upon cancellation of the present bond, the NTS TSP must provide evidence of continuing coverage at least 10 days prior to cancellation. If a lapse occurs the NTS TSP approval will be rescinded.

c. The Surety Company must maintain a rating of “A” or better in the current issue of Best's Insurance Guide in order to be approved by the RPM.

d. Use of the Bond form listed in Part III, Item 10 of this agreement and shown as attachment 10 to this agreement is required.

2. The Regional Program Manager has sole responsibility for the approval and acceptance of a storage facility for use in the NTS program. When the Regional Program Manager has determined a storage facility does not meet the criteria for continued acceptance in the NTS program, the Warehouse Performance Bond shall be used to offset costs associated in relocating the lots stored in the unacceptable facility to an approved facility of the Regional Program Manager's choosing.

Background: Due to the monetary loss associated with re-procuring services for shipments in storage, it has been determined that a Warehouse Performance Bond is in the best interest of DOD. This Bond will be used to cover the costs associated in relocating stored shipments to an approved warehouse site as determined by the SDDC, Regional Storage Management Office, Regional Program Manager. Relocation of stored shipments becomes necessary when the warehouse currently in use is no longer approved for use in the DOD Personal Property Storage Program or the TSP/contractor is no longer acceptable as a service provider.

Regulation Flexibility Act

This action is not considered rule making within the meaning of Regulatory Flexibility Act, 5 U.S.C. 601-612.

Paperwork Reduction Act

The Paperwork Reduction Act, 44 U.S.C. 3051 et seq., does not apply because no information collection or recordkeeping requirements are imposed on contractors, offerors of members of the public.

Steven L. Amato,
Col, USAF, DCS, Passenger and Personal Property.

[FR Doc. 07-2807 Filed 6-5-07; 8:45 am]

BILLING CODE 3710-08-M